DEPARTMENT OF HOMELAND SECURITY

Federal Emergency Management Agency

[Docket ID: FEMA-2024-0036; OMB No. 1660-0112]

Agency Information Collection Activities: Proposed Collection; Comment Request; FEMA Preparedness Grants: Transit Security Grant Program (TSGP) and Intercity Bus Security Grant Program (IBSGP)

AGENCY: Federal Emergency Management Agency, Department of Homeland Security.

ACTION: 60-Day notice of revision and request for comments.

SUMMARY: The Federal Emergency Management Agency (FEMA), as part of its continuing effort to reduce paperwork and respondent burden, invites the general public to take this opportunity to comment on a revision of a currently approved information collection. In accordance with the Paperwork Reduction Act of 1995, this notice seeks comments concerning the Transit Security Grant Program (TSGP) and the Intercity Bus Security Grant Program (IBSGP), which are FEMA grant programs that focus on transportation infrastructure protection activities.

DATES: Comments must be submitted on or before February 18, 2025.

ADDRESSES: To avoid duplicate submissions to the docket, please submit comments at www.regulations.gov under Docket ID FEMA-2024-0036. Follow the instructions for submitting comments.

All submissions received must include the agency name and Docket ID. Regardless of the method used for submitting comments or material, all submissions will be posted, without change, to the Federal Rulemaking Portal at http://www.regulations.gov, and will include any personal information you provide. Therefore, submitting this information makes it public. You may wish to read the Privacy and Security Notice that is available via a link on the homepage of www.regulations.gov.

FOR FURTHER INFORMATION CONTACT: Kevin Groves, Supervisory Program Analyst, FEMA, 202-330-3836, and kevin.groves@fema.dhs.gov. You may contact the Information Management Division for copies of the proposed collection of information at email address: FEMA-Information-Collections-Management@fema.dhs.gov.

SUPPLEMENTARY INFORMATION: The Transit Security Grant Program (TSGP) is a Federal Emergency Management Agency (FEMA) grant program that focuses on transportation infrastructure protection activities. The collection of information for TSGP is mandated by Section 1406, Title XIV of the Implementing Recommendations of the 9/11 Commission Act of 2007 (Pub. L. 110-53) (codified at 6 U.S.C. 1135), which directs the Secretary to establish a program for making grants to eligible public transportation agencies for security improvements. Additionally, information is collected in accordance with Section 1406(c) of the Implementing Recommendations of the 9/11 Commission Act of 2007 (6 U.S.C. 1135(c)) which authorizes the Secretary to determine the requirements for grant recipients, including application requirements.

The Intercity Bus Security Grant Program (IBSGP) is a FEMA grant program that focuses on transportation infrastructure protection activities. The collection of information for IBSGP is mandated by Section 1532 of the Implementing Recommendations of the 9/11 Commission Act of 2007 (Pub. L. 110-53) (codified at 6 U.S.C. 1182), which directs the Secretary to establish a program for making grants to eligible public transportation agencies for security improvements. Additionally, information is collected in accordance with Section 1532(d) of the Implementing Recommendations of the 9/11 Commission Act of 2007 (6 U.S.C. 1182(d)) which authorizes the Secretary to determine the requirements for grant recipients, including application requirements. With this revision, FEMA adds the instruments for the IBSGP to this collection for easier management and transparency.

Collection of Information

Title: FEMA Preparedness Grants: Transit Security Grant Program (TSGP) and Intercity Bus Security Grant Program (IBSGP).

Type of Information Collection: Revision of a currently approved information collection.

OMB Number: 1660-0112.

FEMA Forms: TSGP Five Year Security Capital and Operational Sustainment Plan, FEMA Form FF-207-FY-21-101; TSGP Investment Justification Background Document, FEMA Form FF-207-FY-21-102; TSGP Investment Justification, FEMA Form FF-207-FY-21-103; TSGP Public Transit Risk Assessment Methodology (PT-RAM) Gap Analysis, FEMA Form FF-207-FY-21-104; TSGP PT-RAM Implementation Plan, FEMA Form FF-207-FY-21-105; TSGP PT-RAM, FEMA Form FF-207-FY-21-106; ISBGP Investment Justification Form, FEMA Form FF-207-FY-23-102; IBSGP Detailed Budget Worksheet, FEMA Form FF-207-FY-23-103; and IBSGP Vulnerability Assessment and Security Plan, FEMA Form FF-207-FY-23-104.

Abstract: The TSGP and IBSGP are important components of the Department's effort to enhance the security of the Nation's critical infrastructure. The programs provide funds to owners and operators of transit systems (TSGP) and private bus operators (IBSGP) to protect critical surface transportation infrastructure and the traveling public from acts of terrorism, major disasters, and other emergencies.

Affected Public: Business or other for-profit entities, State and local governments.

Estimated Number of Respondents: 906.

Estimated Number of Responses: 906.

Estimated Total Annual Burden Hours: 15,940.

Estimated Total Annual Respondent Cost: $1,537,792.

Estimated Respondents' Operation and Maintenance Costs: $0.

Estimated Respondents' Capital and Start-Up Costs: $0.

Estimated Total Annual Cost to the Federal Government: $1,163,120.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Arthur,
Acting Records Management Branch Chief, Office of the Chief Administrative Officer, Mission Support, Federal Emergency Management Agency, Department of Homeland Security.

[FR Doc. 2024-29891 Filed 12-17-24; 8:45 am]

BILLING CODE 9111-78-P